DEPARTMENT OF TRANSPORTATION

Federal Aviation Administration

Notice of Availability for the Cal Black Memorial Airport Final Supplemental Environmental Impact Statement (Draft SEIS) and Section 4(f) Evaluation

AGENCY: Federal Aviation Administration (FAA), U.S. National Park Service (NPS) and Bureau of Land Management (BLM) are cooperating agencies by virtue of their jurisdictional authority and/or resource management responsibilities.

ACTION: Notice of availability.

SUMMARY: In accordance with the National Environmental Policy Act of 1969 (NEPA, 42 U.S.C. 4321 et seq.) and Council on Environmental Quality regulations (40 CFR part 1500-1508), the Federal Aviation Administration announces the availability of the Final Supplemental Environmental Impact Statement (Final SEIS) and Section 4(f) Evaluation for the Cal Black Memorial Airport. The Section 4(f) Evaluation was prepared pursuant to Section 4(f) of the Department of Transportation Act of 1966 (recodified at 49 U.S.C. 303(c)).

DATES: The Federal Aviation Administration will not issue a final decision on the Cal Black Memorial Airport project for a minimum of 30 days after the date that the U.S. Environmental Protection Agency publishes its Notice of Availability in the Federal Register.

ADDRESSES: Copies of the Final SEIS may be viewed during regular business hours at the following locations:

1. Federal Aviation Administration Airports Division, Suite 315, 1601 Lind Avenue SW., Renton, WA 98057

2. Federal Aviation Administration, Airports District Office, Suite 224, 26805 East 68th Avenue, Denver, CO 80249

3. San Juan County Courthouse, County Executive Office, 117 S Main, Monticello, Utah 84535

4. Web site: http://halls.crossing.airportnetwork.com/.

FOR FURTHER INFORMATION CONTACT: Janell Barrilleaux, Environmental Program Manager, Federal Aviation Administration Airports Division, Northwest Mountain Region, 1601 Lind Avenue SW., Renton, WA 98057. Mrs. Barrilleaux may be contacted during business hours at (425) 227-2611 (phone), (425) 227-1600 (fax), or via email at Janell.Barrilleaux@faa.gov.

SUPPLEMENTARY INFORMATION: The Northwest Mountain Region of the Federal Aviation Administration (FAA) as lead agency and the National Park Service (NPS) and Bureau of Land Management (BLM) as cooperating agencies have prepared a Draft Supplemental Environmental Impact Statement (Draft SEIS) and Section 4(f) Evaluation to address issues arising from the 1993 Tenth Circuit U.S. Court of Appeals Decision concerning the development of Cal Black Memorial Airport. This Draft SEIS and Section 4(f) Evaluation does not involve any new development or project at the airport. The Cal Black Memorial Airport opened in April 1992.

Halls Crossing Airport was located within the boundary of the Glen Canyon National Recreation Area, a unit of the National Park Service (NPS). Due to safety issues with that airport, an Environmental Impact Statement (EIS) was prepared concerning the development of a replacement airport. In 1990, the FAA issued a Draft and Final EIS for the development of a replacement airport. In August 1990, the FAA issued a Record of Decision (ROD) approving the development of Cal Black Memorial Airport. The FAA determined in the ROD that the use of the BLM lands upon which the airport would be built was reasonably necessary for the project. Accordingly, the BLM issued a Patent for the airport land to San Juan County on September 25, 1990. In reaching its approval, the FAA determined that no significant impacts would result from the new airport to the recreational experience of visitors to the recreational area.

In 1990, the National Parks and Conservation Association (NPCA), et al brought suit against the FAA concerning the adequacy of the EIS and the adequacy of the BLM Plan Amendment and land transfer process. In its July 7, 1993 decision, the Tenth Circuit of the U.S. Court of Appeals remanded the EIS back to the FAA and BLM for further environmental analysis of aircraft noise impacts to the recreational use of public lands and the BLM's plan amendment and transfer of land.

On November 17, 2008 the BLM issued the Monticello Field Office Record of Decision and Approved Resource Management Plan. The document provides guidance for the management of Federal lands administered by the BLM in San Juan County and a small portion of Grant County in southeast Utah and includes provisions for the disposal of the Cal Black Memorial Airport property.

FAA prepared a Draft SEIS and Section 4(f) Evaluation for the Replacement Airport at Halls Crossing to address the requirements of the U.S. Court of Appeals' findings. The scope of the Draft SEIS and Section 4(f) Evaluation included: (1) The measurement of actual aircraft noise levels in GCNRA and visitor survey, (2) an updated evaluation of existing and future aircraft noise levels; (3) a Section 4(f) evaluation using the updated noise analysis; and (4) an analysis on potential cumulative effects. The Draft SEIS was made available for a 45-day public review and comment period on December 12, 2014. The comment period included an opportunity to request a public hearing; however, no requests for a hearing were received. Comments were received by various parties and an errata sheet was prepared to identify changes that were made to the Draft SEIS in response to the public input. Additionally, Appendix J was prepared to document each comment received as well as FAA's response to each comment. These additional documents, in combination with the Draft SEIS, constitute the Final SEIS for the Replacement Airport at Halls Crossing.

Issued in Renton, Washington April 27, 2015.
Sarah P. Dalton,
Division Manager, Airports Division, Northwest Mountain Region.

[FR Doc. 2015-10240 Filed 4-30-15; 8:45 am]

BILLING CODE 4910-13-P